DEPARTMENT OF LABOR

Employment and Training Administration

[TA-W-83,321]

LATA Environmental Services Of Kentucky, LLC, A Wholly Owned Subsidiary of Los Alamos Technical Associates, Inc., Including On-Site Leased Workers From Babcock & Wilcox Technical Services Group and S.M. Stoller Corporation, Kevil, Kentucky; Amended Certification Regarding Eligibility To Apply for Worker Adjustment Assistance

In accordance with Section 223 of the Trade Act of 1974, as amended (“Act”), 19 U.S.C. 2273, the Department of Labor issued a Certification of Eligibility to Apply for Worker Adjustment Assistance on June 11, 2014, applicable to workers of LATA Environmental Services of Kentucky, LLC, a wholly owned subsidiary of Los Alamos Technical Associates, Inc., Kevil, Kentucky. The Department's notice of determination was published in the Federal Register on June 30, 2014 (79 FR 36827).

At the request of a former worker, the Department reviewed the certification for workers of the subject firm and the allegation that the worker group included on-site leased workers. The subject firm confirmed that workers leased from Babcock & Wilcox Technical Services Group and S.M. Stoller Corporation were employed on-site at the subject firm. The workers were engaged in environmental remediation services. The Department has determined that these workers were sufficiently under the control of the subject firm to be considered leased workers.

Based on these findings, the Department is amending this certification to include workers leased from Babcock & Wilcox Technical Services Group and S.M. Stoller Corporation working on-site at LATA Environmental Services of Kentucky, LLC, a wholly owned subsidiary of Los Alamos Technical Associates, Inc., Kevil, Kentucky.

The amended notice applicable to TA-W-83,321 is hereby issued as follows:

“All workers of Babcock & Wilcox Technical Services Group and S.M. Stoller Corporation, reporting to LATA Environmental Services of Kentucky, LLC, a wholly owned subsidiary of Los Alamos Technical Associates, Inc., Kevil, Kentucky, who became totally or partially separated from employment on or after December 20, 2012 through June 11, 2016, and all workers in the group threatened with total or partial separation from employment on the date of certification through two years from the date of certification, are eligible to apply for adjustment assistance under Chapter 2 of Title II of the Trade Act of 1974, as amended.”

Signed in Washington, DC this 10th day of September, 2014.
Michael W. Jaffe,
Certifying Officer, Office of Trade Adjustment Assistance.

[FR Doc. 2014-23483 Filed 10-1-14; 8:45 am]

BILLING CODE 4510-FN-P